DEPARTMENT OF COMMERCE

International Trade Administration

U.S. Department of Commerce Advisory Council on Trade Enforcement and Compliance

AGENCY: International Trade Administration, U.S. Department of Commerce.

ACTION: Notice of establishment of the U.S. Department of Commerce Advisory Council on Trade Enforcement and Compliance.

SUMMARY: The Secretary of Commerce (Secretary), having determined that it is in the public interest in connection with the performance of duties imposed on the Department of Commerce by law, and with the concurrence of the General Services Administration, announces establishment of the U.S. Department of Commerce Advisory Council on Trade Enforcement and Compliance (ACTEC). The ACTEC shall advise the Secretary on laws and government policies that deal with trade enforcement; identify and recommend programs, policies, and actions to help the Department in its efforts to ensure that U.S. trading partners comply with their trade agreement commitments; and recommend ways that the Department's trade enforcement and compliance policies and programs can better support a strong trade and manufacturing agenda and enhance the commercial competitiveness of the United States. The ACTEC shall act as a liaison with the stakeholders represented by the membership, and shall provide a forum for stakeholder input regarding current and emerging issues in trade enforcement and compliance matters. The Department of Commerce will publish a notice in January soliciting nominations for membership on the ACTEC.

DATES: Effective January 10, 2017.

FOR FURTHER INFORMATION CONTACT: Meredith Rutherford, U.S. Department of Commerce, 1401 Constitution Avenue NW., Room 3089, Washington, DC 20230; telephone: 202 482 6199; email: meredith.rutherford@trade.gov.

SUPPLEMENTARY INFORMATION:

I. Background and Authority

The ACTEC is established in accordance with the provisions of the Federal Advisory Committee Act, as amended, 5 U.S.C. App., to advise the Secretary on matters relating to relating to the Department's statutory missions to enforce U.S. trade remedy laws and seek foreign government compliance with trade agreements. The Department affirms that the creation of the ACTEC is necessary and in the public interest. The Assistant Secretary for Enforcement and Compliance, U.S. Department of Commerce, shall serve as the Executive Director of the ACTEC. The Executive Director shall designate both the Designated Federal Officer (DFO) and a Secondary DFO from among the employees of the International Trade Administration's Enforcement and Compliance unit. The DFO serves as the ACTEC Executive Secretary.

The ACTEC shall advise the Secretary on laws and government policies that deal with trade enforcement; identify and recommend programs, policies, and actions to help the Department in its efforts to ensure that U.S. trading partners comply with their trade agreement commitments; and recommend ways that the Department's enforcement and compliance activities can better support a strong trade and manufacturing agenda and advance the commercial competitiveness of U.S. firms and workers.

The ACTEC shall act as a liaison with the stakeholders represented by the membership, and shall provide a forum for stakeholders on current and emerging issues concerning trade enforcement and compliance matters.

The ACTEC shall report to the Secretary on its activities and recommendations regarding the Department's trade enforcement and compliance efforts. In creating its reports, the ACTEC should survey and evaluate the trade enforcement and compliance concerns of its stakeholders, should identify and examine specific trade problems that require attention, and should examine the needs in this area to inform the ACTEC's efforts. The ACTEC should recommend specific solutions to the problems and needs it identifies.

II. Structure, Membership, and Operation

The ACTEC shall consist of no more than twenty members appointed by the Secretary. Members shall represent U.S. entities involved in and significantly affected by imports and/or those that heavily export to, or operate in, countries with which the United States has trade agreements.

All members must be U.S. Nationals and shall be selected based on their ability to carry out the objectives of the ACTEC, in accordance with applicable Department of Commerce guidelines, in a manner that ensures the ACTEC is balanced in terms of points of view, demographics, industry sector, geography of both production infrastructure and product inputs, and company size. Members shall also represent a broad range of products and services and shall be drawn from large, medium, and small enterprises, private sector organizations, and other entities, such as, non-governmental organizations, associations, and economic development organizations. Members shall serve in a representative capacity, representing the views and interests of their sponsoring entities and those of their particular industrial and regional sector (as applicable); they are, therefore, not Special Government Employees. Appointments to the ACTEC shall be made without regard to political affiliation.

Members serve for a term of two years and will serve at the pleasure of the Secretary. The Secretary may at his/her discretion reappoint any member to an additional term or terms, provided that the member proves to work effectively on the ACTEC and his/her knowledge and advice are still needed.

The Secretary shall designate the ACTEC chair and vice chair or vice chairs from among the members of the ACTEC. The Executive Director may establish subcommittees from among the ACTEC members, in order to perform specific functions within the jurisdiction of the ACTEC, subject to the provisions of the Federal Advisory Committee Act (FACA), the FACA implementing regulations, and applicable Department of Commerce guidance. Subcommittees must report back to the parent committee and do not provide advice or work product directly to the Secretary.

III. Compensation

Members will not be compensated for their services or reimbursed for their travel expenses.

Dated: January 4, 2017.
Steven Presing,
Executive Director for Trade Agreements Policy and Negotiations.

[FR Doc. 2017-00254 Filed 1-9-17; 8:45 am]

BILLING CODE 3510-DS-P